ADVISORY COUNCIL ON HISTORIC PRESERVATION

Extension of Comment Period for Draft Program Comment Regarding Historic Preservation Review Process for Projects Involving Historic Natural Gas Pipelines

AGENCY: Advisory Council on Historic Preservation.

ACTION: Notice of extension of commenting period regarding proposed program comments on historic natural gas pipelines.

SUMMARY: The Advisory Council on Historic Preservation proposed a Program Comment to streamline the historic preservation review process for projects involving historic natural gas pipelines. The original comment period, November 9, 2001, is now extended to December 10, 2001.

DATES: Submit comments on or before December 10, 2001.

ADDRESSES: Address all comments concerning this proposed program comment to Don Klima, Director, Office of Planning and Review, Advisory Council on Historic Preservation, 1100 Pennsylvania Avenue, NW., Suite 809, Washington, DC 20004. Fax (202) 606-8672. You may submit electronic comments to dklima@achp.gov.

FOR FURTHER INFORMATION CONTACT: Don Klima, 202-606-8505.

SUPPLEMENTARY INFORMATION: On October 19, 2001, the Advisory Council on Historic Preservation (“Council”) notified the public of its intent to issue Program Comments that would streamline the historic preservation review process for projects involving historic natural gas pipelines (see 66 FR 53198). That notice established the deadline for public comment as November 9, 2001.

In response to requests for extending that deadline, the Council hereby extends the deadline for public comment until December 10, 2001.

You can access the original notice, which includes the initial draft of the Program Comments, at the cited issue of the Federal Register (66 FR 53198) or at the Council's Web site at www.achp.gov/news-pipelinecomment.html.

Authority: 36 CFR 800.14(e).

Dated: November 14, 2001.
John M. Fowler,
Executive Director.

[FR Doc. 01-28908 Filed 11-19-01; 8:45 am]

BILLING CODE 4310-10-M